DEPARTMENT OF DEFENSE

Office of the Secretary

Renewal of Department of Defense Federal Advisory Committees

AGENCY: Department of Defense.

ACTION: Renewal of Federal Advisory Committee.

SUMMARY: Under the provisions of Section 601(c) of Title VI of Public Law 108-183, the Federal Advisory Committee Act of 1972, (5 U.S.C. Appendix), the Government in the Sunshine Act of 1976 (5 U.S.C. 552b), and 41 CFR 102-3.50, the Department of Defense gives notice that it is renewing the charter for the Veterans' Advisory Board on Dose Reconstruction (hereafter referred to as the Board).

The Board is a non-discretionary Federal advisory committee established to provide review and oversight of the Radiation Dose Reconstruction program and make such recommendation on modifications in the mission, procedures and administration of the Radiation Dose Reconstruction Program as it considers appropriate as a result of the audits conducted under the authority of Section 601(c)(3)(A) of Title VI of Public Law 108-183. The Board shall:

a. Conduct periodic, random audits of dose reconstructions under the Radiation Dose Reconstruction program and Decisions by the Department of Veterans Affairs on Claims for service connection of radiogenic diseases;

b. Assist the Department of Veterans Affairs and the Defense Threat Reduction Agency in communicating to veterans information on the mission, procedures, and evidentiary requirements of the Radiation Dose Reconstruction Program;

c. Carry out such other activities with respect to the review and oversight of the Radiation Dose Reconstruction Program as the Secretary of Defense and Secretary of Veterans Affairs shall jointly specify;

d. Make recommendation on modifications to the mission and procedures of the Dose Reconstruction program as the Board considers appropriate as a result of the audits conducted pursuant to (a) above;

e. Any additional actions the Secretary of Defense and the Secretary of Veterans Affairs jointly determine are required to ensure that the quality assurance and quality control mechanisms of the Radiation Dose Reconstruction Program are adequate and sufficient for purpose of the program; and

f. Any additional actions the Secretary of Defense and the Secretary of Veterans Affairs jointly determine are required to ensure that the mechanisms of the Radiation Dose Reconstruction Program for communication and interaction with veterans are adequate and sufficient for the program.

The Under Secretary of Defense (Acquisition, Technology and Logistics), as well as the Department of Veterans Affairs may act upon the Board's advice and recommendations.

The Council, pursuant to Section 601(c)(2) of Title VI of Public Law 108-183, shall be comprised of:

a. At least one expert in historical dose reconstruction of the type conducted under the Radiation Dose Reconstruction Program;

b. At least one expert in radiation health matters;

c. At least one expert in risk communications matters;

d. A representative of the Defense Threat Reduction Agency and a representative of the Department of Veterans Affairs, and

e. At least three veterans, including at least one veteran who is a member of an atomic veterans group.

Board members shall be jointly appointed by the Secretary of Defense and Secretary of Veterans Affairs, and the appointments must be renewed on an annual basis. Board members, who are not full-time or permanent part-time Federal officers or employees shall be appointed to serve as experts and consultants under the authority of 5 U.S.C. 3109 and serve as special government employees, whose appointments must be renewed on an annual basis.

With the exception of travel and per diem for official travel, Board members shall serve without compensation.

With DoD approval, the Board is authorized to establish subcommittees, as necessary and consistent with its mission. These subcommittees shall operate under the provisions of the Federal Advisory Committee Act of 1972, the Government in the Sunshine Act of 1976 (5 U.S.C. 552b), and other governing Federal statutes and regulations.

Such subcommittees shall not work independently of the chartered Board and shall report all their recommendations and advice to the Board for full deliberation and discussion. Subcommittees have no authority to make decisions on behalf of the chartered Board; nor can they report directly to the Department of Defense or any Federal officers or employees who are not Board members.

Subcommittee members, who are not Board members, shall be appointed in the same manner as the Board members. Such individuals, if not full-time or part-time government employees, shall be appointed to serve as experts and consultants under the authority of 5 U.S.C. 3109, and serve as special government employees, whose appointments must be renewed on an annual basis.

FOR FURTHER INFORMATION CONTACT: Contact Jim Freeman, Deputy Committee Management Officer for the Department of Defense, 703-601-6128.

SUPPLEMENTARY INFORMATION: The Board shall meet at the call of the Board's Designated Federal Officer, in consultation with the Board's chairperson. The estimated number of Board meetings is two per year.

The Designated Federal Officer, pursuant to DoD policy, shall be a full-time or permanent part-time DoD employee, and shall be appointed in accordance with established DoD policies and procedures. In addition, the Designated Federal Officer is required to be in attendance for the full duration of all Board and subcommittee meetings; however, in the absence of the Designated Federal Officer, the Alternate Designated Federal Officer shall attend the entire meeting.

Pursuant to 41 CFR 102-3.105(j) and 102-3.140, the public or interested organizations may submit written statements to the Veterans' Advisory Board on Dose Reconstruction membership about the Board's mission and functions. Written statements may be submitted at any time or in response to the stated agenda of planned meeting of the Veterans' Advisory Board on Dose Reconstruction.

All written statements shall be submitted to the Designated Federal Officer for the Veterans' Advisory Board on Dose Reconstruction, and this individual will ensure that the written statements are provided to the membership for their consideration. Contact information for the Veterans' Advisory Board on Dose Reconstruction Designated Federal Officer can be obtained from the GSA's FACA Database— https://www.fido.gov/facadatabase/public.asp.

The Designated Federal Officer, pursuant to 41 CFR 102-3.150, will announce planned meetings of the Veterans' Advisory Board on Dose Reconstruction. The Designated Federal Officer, at that time, may provide additional guidance on the submission of written statements that are in response to the stated agenda for the planned meeting in question.

Dated: December 8, 2010.
Morgan F. Park,
Alternate OSD Federal Register Liaison Officer, Department of Defense.

[FR Doc. 2010-31247 Filed 12-13-10; 8:45 am]

BILLING CODE 5001-06-P